DEPARTMENT OF TRANSPORTATION

Federal Aviation Administration (FAA)

Notice of Opportunity for Public Comment on Federally Obligated Property Release at Nashville International Airport, Nashville, TN

AGENCY: Federal Aviation Administration (FAA), DOT.

ACTION: Notice.

SUMMARY: Under the provisions of Title 49, U.S.C. Section 47153(c), notice is being given that the FAA is considering a request from the Metropolitan Nashville Airport Authority to waive the requirement that a 0.52-acre parcel of federally obligated property, located at Nashville International Airport, be used for aeronautical purposes.

DATES: Comments must be received on or before January 27, 2003.

ADDRESSES: Comments on this notice may be mailed or delivered in triplicate to the FAA at the following address: Memphis Airports District Office, 3385 Airways Boulevard, Suite 302, Memphis, TN 38116-3841.

In addition, one copy of any comments submitted to the FAA must be mailed or delivered to Mr. Raul Regalado, President of the Metropolitan Nashville Airport Authority at the following address: One Terminal Drive, Suite 501, Nashville, TN 37214.

FOR FURTHER INFORMATION CONTACT: Cynthia K. Wills, Program Manage, Memphis Airports District Office, 3385 Airways Boulevard, Suite 302, Memphis, TN 38116-3841, (901) 544-3495 extension 16. the application may be reviewed in person at this same location.

SUPPLEMENTARY INFORMATION: The FAA is reviewing a request by Metropolitan Nashville Airport Authority to release 0.52 acres of federally obligated property at Nashville International Airport. The property will be purchased by the State of Tennessee Department of Transportation and used for the widening of Briley Parkway and changes to the I-40 intersection. The land is located along the eastern right of way of the Briley Parkway/I-40 intersection, located on the northwestern boundary of the Nashville International Airport. The net proceeds from the non-aeronautical use or the sale of this property will be used for airport purposes.

Any person may inspect the request in person at the FAA office listed above under FOR FURTHER INFORMATION CONTACT. In addition, any person may, upon request, inspect the request, notice and other documents germane to the request in person at the Metropolitan Nashville Airport Authority.

Dated: Issued in Memphis, Tennessee, on December 19, 2002.
LaVerne F. Reid,
Manager, Memphis Airports District office Southern Region.

[FR Doc. 02-32787 Filed 12-26-02; 8:45 am]

BILLING CODE 4910-13-M